DEPARTMENT OF TRANSPORTATION

Federal Aviation Administration

Membership in the National Parks Overflights Advisory Group Aviation Rulemaking Committee

AGENCY: Federal Aviation Administration, Transportation.

ACTION: Notice.

SUMMARY: By Federal Register notice (See 77 FR 27835-27836; May 11, 2012) the National Park Service (NPS) and the Federal Aviation Administration (FAA) invited interested persons to apply to fill six upcoming openings on the National Parks Overflights Advisory Group (NPOAG) Aviation Rulemaking Committee (ARC). The notice invited interested persons to apply to fill six vacancies representing commercial air tour operators (2), general aviation (1), Native American tribal (1), and environmental (2) concerns due to the incumbent members' completion of three-year term appointments on October 9, 2012. This notice informs the public of the persons selected to fill five of the six vacancies on the NPOAG ARC. Vacancies filled include the two commercial tour operator openings, the general aviation opening, the tribal opening, and one of the environmental openings. Since the previous notice did not draw enough responses from individuals for the remaining environmental vacancy, NPS and FAA are also using this notice to invite other interested individuals to apply for the remaining environmental opening. If you responded to the initial notice for the environmental openings, you will still be under consideration and need not re-apply.

DATES: Persons interested in applying for the remaining NPOAG opening representing environmental concerns need to apply by September 12, 2012.

FOR FURTHER INFORMATION CONTACT: Barry Brayer, Special Programs Staff, Federal Aviation Administration, Western-Pacific Region Headquarters, P.O. Box 92007, Los Angeles, CA 90009-2007, telephone: (310) 725-3800, email: Barry.Brayer@faa.gov.

SUPPLEMENTARY INFORMATION:

Background

The National Parks Air Tour Management Act of 2000 (the Act) was enacted on April 5, 2000, as Public Law 106-181. The Act required the establishment of the advisory group within 1 year after its enactment. The NPOAG was established in March 2001. The advisory group is comprised of a balanced group of representatives of general aviation, commercial air tour operations, environmental concerns, and Native American tribes. The Administrator of the FAA and the Director of NPS (or their designees) serve as ex officio members of the group. Representatives of the Administrator and Director serve alternating 1-year terms as chairman of the advisory group.

In accordance with the Act, the advisory group provides “advice, information, and recommendations to the Administrator and the Director—

(1) On the implementation of this title [the Act] and the amendments made by this title;

(2) On commonly accepted quiet aircraft technology for use in commercial air tour operations over a national park or tribal lands, which will receive preferential treatment in a given air tour management plan;

(3) On other measures that might be taken to accommodate the interests of visitors to national parks; and

(4) At the request of the Administrator and the Director, safety, environmental, and other issues related to commercial air tour operations over a national park or tribal lands.”

Membership

The current NPOAG ARC is made up of one member representing general aviation, three members representing the commercial air tour industry, four members representing environmental concerns, and two members representing Native American interests. Current members of the NPOAG ARC are as follows:

Heidi Williams representing general aviation; Alan Stephen, Elling Halvorson, and Matthew Zuccaro representing commercial air tour operators; Chip Dennerlein, Greg Miller, Kristen Brengel, and Dick Hingson representing environmental interests; and Rory Majenty and Ray Russell representing Native American tribes.

Selection

Selected to fill the air tour operator vacancies, for additional terms, are returning members Alan Stephen and Matthew Zuccaro. Selected to fill the general aviation vacancy is returning member Heidi Williams. Selected to fill the Native American opening is new member Martin Begaye. Selected to fill one of the environmental vacancies is returning member Greg Miller. These members' new or additional terms begin on October 10, 2012. The term of service for NPOAG ARC members is 3 years.

Additional Opening

In order to retain balance within the NPOAG ARC with one remaining opening, the FAA and NPS invite persons interested in representing environmental concerns on the ARC to contact Mr. Barry Brayer (contact information is written above in FOR FURTHER INFORMATION CONTACT).

Requests to serve on the ARC must be made to Mr. Brayer in writing and postmarked or emailed on or before September 12, 2012. The request should indicate whether or not you are a member of an association or group related to environmental issues or concerns or have another affiliation with issues relating to aircraft flights over national parks. The request should also state what expertise you would bring to the NPOAG ARC as related to environmental concerns. The term of service for NPOAG ARC members is 3 years.

Issued in Hawthorne, CA, on July 30, 2012.
Barry Brayer,
Manager, Special Programs Staff, Western-Pacific Region.

[FR Doc. 2012-19471 Filed 8-10-12; 8:45 am]

BILLING CODE 4910-13-M